DEPARTMENT OF THE INTERIOR

National Park Service

Ecological Restoration Plan, Draft Environmental Impact Statement, Bandelier National Monument, NM

AGENCY: National Park Service, Department of the Interior.

ACTION: Notice of Availability of the Draft Environmental Impact Statement for the Ecological Restoration Plan, Bandelier National Monument.

SUMMARY: Pursuant to the National Environmental Policy Act of 1969, 42 U.S.C. 4332(2)(C), the National Park Service announces the availability of a Draft Environmental Impact Statement for the Ecological Restoration Plan for Bandelier National Monument, New Mexico.

DATES: The National Park Service will accept comments on the Draft Environmental Impact Statement from the public. Comments will be accepted for 60 days from the date the Environmental Protection Agency publishes the Notice of Availability. No public meetings are scheduled at this time.

ADDRESSES: Information will be available for public review and comment online at http://parkplanning.nps.gov and in the office of the Superintendent, Darlene Koontz, Bandelier National Monument, 15 Entrance Road, Los Alamos, New Mexico 87544, 505-672-3861, extension 502.

FOR FURTHER INFORMATION CONTACT: John Mack, Chief of Resource Management, Bandelier National Monument, 15 Entrance Road, Los Alamos, New Mexico 87544, 505-672-3861, extension 540, john_mack@nps.gov.

SUPPLEMENTARY INFORMATION: If you wish to comment, you may submit your comments by any one of several methods. You may mail comments to Superintendent Darlene Koontz, Bandelier National Monument, 15 Entrance Road, Los Alamos, New Mexico 87544. You may also comment via the Internet at http://parkplanning.nps.gov. If you do not receive a confirmation from the system that we have received your Internet message, contact us directly at the office of the Superintendent, 505-672-3861, extension 502. Finally, you may hand-deliver comments to Bandelier National Monument, 15 Entrance Road, Los Alamos, New Mexico 87544. Our practice is to make comments, including names, home addresses, home phone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

Dated: August 9, 2006.
Hal J. Grovert,
Acting Director, Intermountain Region, National Park Service.

[FR Doc. E6-21488 Filed 12-20-06; 8:45 am]

BILLING CODE 4312-EW-P